DEPARTMENT OF DEFENSE

Office of the Secretary

Modification of Federal Advisory Committee Charter

AGENCY: Department of Defense.

ACTION: Modification of Federal Advisory Committee Charter.

SUMMARY: Under the provisions of the Federal Advisory Committee Act of 1972 (5 U.S.C. Appendix, as amended), the Sunshine in the Government Act of 1976 (5 U.S.C. 552b, as amended), and 41 CFR 102-3.65, the Department of Defense gives notice that it intends to revise the charter for the Department of Defense Audit Advisory Committee. Specifically, the Department is increasing the number of committee members from five to seven members.

This committee will provide the Secretary of Defense, through the Under Secretary of Defense (Comptroller)/Chief Financial Officer, independent advice on DoD's financial management, including the financial reporting process, systems of internal controls, audit process and processes for monitoring compliance with applicable laws and regulations. In accordance with DoD policy and procedures, the Under Secretary of Defense (Comptroller)/Chief Financial Officer is authorized to act upon the advice emanating from this advisory committee.

Members of the Department of Defense Audit Advisory Committee shall be eminent authorities in the fields of financial management and audit. Committee members appointed by the Secretary of Defense, who are not full-time Federal officers or employees, shall be appointed as experts and consultants under the authority of 5 U.S.C. 3109, and serve as Special Government Employees.

The Department of Defense Audit Advisory Committee, in keeping with DoD policy to make every effort to achieve a balanced membership, includes a cross section of experts directly affected, interested, and qualified to advise on financial and audit matters. Committee members shall be appointed on an annual basis by the Secretary of Defense, and with the exception of travel and per diem for official travel, shall serve without compensation. The Under Secretary of Defense (Comptroller)/Chief Financial Officer shall select the committee's chairperson from the committee's membership at large.

The Department of Defense Audit Advisory Committee shall meet at the call of the committee's Designated Federal Officer, in consultation with the Chairperson, and the estimated number of committee meetings is four per year. The Designated Federal Officer shall be a full-time or permanent part-time DoD employee, and shall be appointed in accordance with established DoD policies and procedures. The Designated Federal Officer or duly appointed Alternate Designated Federal Officer shall attend all committee meetings and subcommittee meetings.

The Department of Defense Audit Advisory Committee shall be authorized to establish subcommittees, as necessary and consistent with its mission, and these subcommittees or working groups shall operate under the provisions of the Federal Advisory Committee Act of 1972, the Sunshine in the Government Act of 1976, and other appropriate Federal regulations.

Such subcommittees or workgroups shall not work independently of the chartered committee, and shall report all their recommendations and advice to the Department of Defense Audit Advisory Committee for full deliberation and discussion. Subcommittees or workgroups have no authority to make decisions on behalf of the chartered committee nor can they report directly to the Department of Defense or any Federal officers or employees who are not members of the Department of Defense Audit Advisory Committee.

FOR FURTHER INFORMATION CONTACT: Contact Jim Freeman, Deputy Committee Management Officer for the Department of Defense at 703-601-6128.

Dated: December 5, 2008.
Patricia L. Toppings,
OSD Federal Register Liaison Officer, Department of Defense.

[FR Doc. E8-29401 Filed 12-11-08; 8:45 am]

BILLING CODE 5001-06-P